DEPARTMENT OF COMMERCE

International Trade Administration

[A-201-830]

Carbon and Certain Alloy Steel Wire Rod From Mexico: Extension of Time Limits for the Preliminary Results of Fifth Antidumping Duty Administrative Review

AGENCY: Import Administration, International Trade Administration, Department of Commerce.

FOR FURTHER INFORMATION CONTACT: Eric Greynolds or Jolanta Lawska, AD/CVD Operations, Office 3, Import Administration, International Trade Administration, U.S. Department of Commerce, 14th Street and Constitution Avenue, NW., Washington, DC 20230; telephone: (202) 482-6071 and (202) 482-8362, respectively.

Background

On November 29, 2010, the Department of Commerce (“Department”) published in the Federal Register a notice of initiation of the administrative review of the antidumping duty order on carbon and certain alloy steel wire rod from Mexico, covering the period October 1, 2009, through September 30, 2010. See Initiation of Antidumping and Countervailing Duty Administrative Reviews, 75 FR 73036 (November 29, 2010) (“Initiation Notice”). The preliminary results of the review are currently due no later than July 3, 2011.

Extension of Time Limit of Preliminary Results

Section 751(a)(3)(A) of the Tariff Act of 1930, as amended (“the Act”), requires the Department to make a preliminary determination within 245 days after the last day of the anniversary month of an order for which a review is requested. Section 751(a)(3)(A) of the Act further states that if it is not practicable to complete the review within the time period specified, the administering authority may extend the 245 day period to issue its preliminary results by up to 120 days.

We determine that completion of the preliminary results of this review within the 245 day period is not practicable for the following reasons. This review requires the Department to gather and analyze a significant amount of information pertaining to the company's sales practices, manufacturing costs, and corporate relationships. Given the number and complexity of issues in this case, and in accordance with section 751(a)(3)(A) of the Act, we are extending the time period for issuing the preliminary results of review by 120 days. The preliminary results will now be due no later than October 31, 2011, the first business day following 120 days from the current deadline. See Notice of Clarification: Application of “Next Business Day” Rule for Administrative Determination Deadlines Pursuant to the Tariff Act of 1930, as Amended, 70 FR 24533 (May 10, 2005). The final results continue to be due 120 days after the publication of the preliminary results.

This notice is issued and published in accordance with sections 751(a)(3)(A) and 777(i)(1) of the Act.

Dated: June 3, 2011.
Christian Marsh,
Deputy Assistant Secretary for Antidumping and Countervailing Duty Operations.

[FR Doc. 2011-14359 Filed 6-9-11; 8:45 am]

BILLING CODE 3510-DS-P